DEPARTMENT OF ENERGY

Federal Energy Regulatory Commission

[Docket No. CP03-75-000]

Freeport LNG Development, L.P.; Notice of Technical Conference

September 10, 2003.

On September 24, 2003, staff of the Office of Energy Projects (OEP) will convene a cryogenic design and technical conference concerning Freeport LNG Development, L.P.'s proposed liquefied natural gas (LNG) import terminal and storage facility in Brazoria County, Texas.

The conference will be held on Wednesday, September 24, 2003, at 8:30 a.m. at the Best Western Clute Inn & Suites in Clute, Texas. In view of the nature of security issues to be explored, the conference will not be open to the public. Attendance at the conference will be limited to existing parties to the proceeding and to representatives of interested local, state, and federal agencies. Any person planning to attend the September 24 conference must notify the Office of General Counsel (Joel Arneson) at (202) 502-8562 by noon on September 23, 2003. Participants will be required to sign a non-disclosure statement prior to admission.

Information concerning any changes to the above may be obtained from the Commission's Office of External Affairs at (202) 502-8004 or toll free at 1-(866) 208-FERC (208-3372).

Linda Mitry,
Acting Secretary.

[FR Doc. 03-23606 Filed 9-15-03; 8:45 am]

BILLING CODE 6717-01-P